DEPARTMENT OF TRANSPORTATION

Office of the Secretary

Aviation Proceedings, Agreements Filed the Week Ending October 8, 2010

The following Agreements were filed with the Department of Transportation under the Sections 412 and 414 of the Federal Aviation Act, as amended (49 U.S.C. 1382 and 1384) and procedures governing proceedings to enforce these provisions. Answers may be filed within 21 days after the filing of the application.

Docket Number: DOT-OST-2010-0249.

Date Filed: October 8, 2010.

Parties: Members of the International Air Transport Association.

Subject: TC3 Special Passenger Amending Resolution 010a from Korea (Rep. of) to South East Asia (except Guam, Northern Mariana Islands) (Memo 1404). Intended effective date: 20 October 2010.

Docket Number: DOT-OST-2010-0250.

Date Filed: October 8, 2010.

Parties: Members of the International Air Transport Association.

Subject: TC3 Special Passenger Amending Resolution 010b from Korea (Rep. of) to Japan (Memo 1405). Intended effective date: 20 October 2010.

Docket Number: DOT-OST-2010-0251.

Date Filed: October 8, 2010.

Parties: Members of the International Air Transport Association.

Subject: TC3 Special Passenger Amending Resolution 010z from Korea (Rep. of) to South Asian Subcontinent (Memo 1406). Intended effective date: 20 October 2010.

Docket Number: DOT-OST-2010-0252.

Date Filed: October 8, 2010.

Parties: Members of the International Air Transport Association.

Subject: TC23 Special Passenger Amending Resolution 010c from Korea (Rep. of) to Middle East (Memo 0452). Intended effective date: 20 October 2010.

Docket Number: DOT-OST-2010-0253.

Date Filed: October 8, 2010.

Parties: Members of the International Air Transport Association.

Subject: TC23 Special Passenger Amending Resolution 010d from Korea (Rep. of) to Africa (Memo 0450). Intended effective date: 20 October 2010.

Renee V. Wright,
Program Manager, Docket Operations, Federal Register Liaison.

[FR Doc. 2010-27020 Filed 10-25-10; 8:45 am]

BILLING CODE 4910-9X-P